SMALL BUSINESS ADMINISTRATION

Wisconsin District Advisory Council; Public Meeting

The U.S. Small Business Administration (SBA) Wisconsin District Advisory Council will be hosting an open meeting on Wednesday, June 21, 2006. The meeting will take place at the U.S. Small Business Administration, Wisconsin District-Milwaukee Office, 310 West Wisconsin Avenue, Suite 400, Milwaukee, Wisconsin 53203.

The purpose of the meeting will be to discuss and provide an update on disaster loan processing; a report on our recently held lenders conference and small business awards breakfast; new and on-going initiatives. Information will be presented by the staff of the SBA, or others present.

Anyone wishing to attend must contact Cindy Merrigan in writing or by fax. Cindy Merrigan, U.S. Small Business Administration, 740 Regent Street, Suite 100, Madison, Wisconsin 53715, telephone (608) 441-5560, fax (202) 481-0815, e-mail: cindy.merrigan@sba.gov.

Matthew K. Becker,
Committee Management Officer.

[FR Doc. E6-8689 Filed 6-5-06; 8:45 am]

BILLING CODE 8025-01-P